DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The Centers for Disease Control and Prevention, National Center for Health Statistics (NCHS), Classifications and Public Health Data Standards Staff, announces the following meeting of the ICD-10 Coordination and Maintenance (C&M) Committee meeting. This meeting is open to the public, limited only by the space available. The meeting room accommodates approximately 240 people. We will be broadcasting the meeting live via Webcast at http://www.cms.gov/live/.

DATES: The meeting will be held on March 17, 2020, 9:00 a.m. to 5:00 p.m., EDT and March 18,2020, 9:00 a.m. to 5:00 p.m., EDT.

ADDRESSES: Centers for Medicare and Medicaid Services (CMS) Auditorium, 7500 Security Boulevard, Baltimore, Maryland 21244.

FOR FURTHER INFORMATION CONTACT: Traci Ramirez, Program Specialist, CDC, 3311 Toledo Road, Hyattsville, Maryland 20782; telephone: (301) 458-4454; TRamirez@cdc.gov.

SUPPLEMENTARY INFORMATION:

Purpose: The ICD-10 Coordination and Maintenance (C&M) Committee is a public forum for the presentation of proposed modifications to the International Classification of Diseases, Tenth Revision, Clinical Modification and ICD-10 Procedure Coding System.

Matters to be Considered: The tentative agenda will include discussions on ICD-10-CM and ICD-10-PCS topics listed below. Agenda items are subject to change as priorities dictate.

Please refer to the posted agenda for updates one month prior to the meeting.

ICD-10-PCS Topics

Microbial Testing

Insertion of Subcutaneous Pump System for Ascites Drainage

Insertion of Carotid Baroceptor Stimulator Pulse Generator

Infectious Disease Testing

Administration of BREYANZI® (lisocabtagene maraleucel)

Administration of FETROJA® (cefiderocol)

CT Angiogram with Computer-Aided Triage and Notification

Endoscopic Gastrointestinal Hemostat

Administration of IMFINZI® (durvalumab)

Intramedullary Joint Fusion System

Peripheral Intravascular Lithotripsy (IVL)

Administration of KTE-X19

Administration of NUZYRA® (omadacycline)

Administration of OTL-101

Administration of Sivextro (tedizolid phosphate)

Administration of Soliris® (eculizumab)

Transcarotid Arterial Revascularization with Embolic

Neuroprotection

Implantable Fracture Reduction System

Administration of TECENTRIQ® (atezolizumab)

Administration of TERLIVAZ® (terlipressin)

Administration of XENLETA® (lefamulin)

Administration of ZERBAXA® (ceftolozane and tazobactam)

Addenda

ICD-10-CM Topics

Anaplasmosis

Breast implant illness

Cough

Electronic nicotine delivery devices

Endometriosis

Non-ischemic heart disease

Non-radiographic axial spondyloarthritis

Synthetic cannabinoids

Addenda

Security Considerations: Due to increased security requirements, CMS has instituted stringent procedures for entrance into the building by non-government employees. Attendees will need to present valid government-issued picture identification, and sign-in at the security desk upon entering the building.

Attendees who wish to attend the March 17-18, 2020, ICD-10-CM C&M meeting must submit their name and organization by March 6, 2020, for inclusion on the visitor list. This visitor list will be maintained at the front desk of the CMS building and used by security to admit visitors to the meeting. To request reasonable accommodation, please contact the CMS Reasonable Accommodation Program at Email reasonableaccommodationprogram@cms.hhs.gov.

Participants who attended previous Coordination and Maintenance meetings will no longer be automatically added to the visitor list. You must request inclusion of your name prior to each meeting you wish attend.

Please register to attend the meeting on-line at: http://www.cms.hhs.gov/apps/events/.

Please contact Mady Hue (410-786-4510) or Marilu.hue@cms.hhs.gov for questions about the registration process.

Note: CMS and NCHS no longer provide paper copies of handouts for the meeting. Electronic copies of all meeting materials will be posted on the CMS and NCHS websites prior to the meeting at http://www.cms.hhs.gov/ICD9ProviderDiagnosticCodes/03_meetings.asp#TopOfPage and https://www.cdc.gov/nchs/icd/icd10cm_maintenance.htm.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-01756 Filed 1-29-20; 8:45 am]

BILLING CODE 4163-18-P